DEPARTMENT OF COMMERCE

National Oceanic and Atmospheric Administration

15 CFR Part 922

[Docket No. 031001243-6227-02]

RIN 0648-AQ41

Gray's Reef National Marine Sanctuary Regulations; Announcement of Effective Date

AGENCY: National Marine Sanctuary Program (NMSP), National Ocean Service (NOS), National Oceanic and Atmospheric Administration (NOAA), Department of Commerce (DOC).

ACTION: Announcement of Effective Date.

SUMMARY: On October 12, 2006, the National Oceanic and Atmospheric Administration (NOAA) published a final rule (71 FR 60055) issuing a final management plan, revised designation document and final regulations for the Gray's Reef National Marine Sanctuary. Under the National Marine Sanctuaries Act, the final regulations would automatically take effect at the end of 45 days of continuous session of Congress beginning on October 12, 2006. The 45-day review period ended on February 16, 2007. This document confirms the effective date as February 16, 2007.

DATES: Effective Date: The final rule published on October 12, 2006 (71 FR 60055) took effect on February 16, 2007.

FOR FURTHER INFORMATION CONTACT: Becky Shortland, Gray's Reef National Marine Sanctuary, 10 Ocean Science Circle, Savannah, Georgia 31411; 912-598-2381; Becky.Shortland@noaa.gov.

(Federal Domestic Assistance Catalog Number 11.429 Marine Sanctuary Program)
Dated: March 13, 2007.
John H. Dunnigan,
Assistant Administrator for Ocean Services and Coastal Zone Management.

[FR Doc. 07-1303 Filed 3-16-07; 8:45 am]

BILLING CODE 3510-08-M